DEPARTMENT OF HOMELAND SECURITY

Coast Guard

33 CFR Part 117

[CGD11-06-042]

Drawbridge Operation Regulations; Cerritos Channel, Los Angeles, CA

AGENCY: Coast Guard, DHS.

ACTION: Notice of temporary deviation from regulations.

SUMMARY: The Commander, Eleventh Coast Guard District, has issued a temporary deviation from the regulation governing the operation of the Henry Ford Drawbridge across the Cerritos Channel, mile 4.8 at Los Angeles, CA. This deviation allows the bridge to remain in the closed-to-navigation position during the deviation period. The deviation is necessary for the bridge owner, the Port of Los Angeles, to perform critical repairs which involve modifications to allow for the inspection of the bridge's counterweight wire ropes.

DATES: This deviation is effective from 8 a.m. on November 6, 2006 to 4 p.m. on December 8, 2006.

ADDRESSES: Materials referred to in this document are available for inspection or copying at Commander (dpw), Eleventh Coast Guard District, Building 50-2, Coast Guard Island, Alameda, CA 94501-5100, between 8 a.m. and 4 p.m., Monday through Friday, except Federal holidays. The telephone number is (510) 437-3515. The Bridge Section office maintains the public docket for this temporary deviation.

FOR FURTHER INFORMATION CONTACT: David H. Sulouff, Chief, Bridge Section, Eleventh Coast Guard District, telephone (510) 437-3516.

SUPPLEMENTARY INFORMATION: On October 5, 2006, The Port of Los Angeles requested a temporary change to the operation of the Henry Ford Drawbridge, mile 4.8, Cerritos Channel, at Los Angeles, CA. The Henry Ford Drawbridge navigation span provides a vertical clearance of 7 feet above Mean High Water in the closed-to-navigation position. Presently, the drawspan is maintained in the fully open position, except when a train is crossing or for maintenance. When the drawspan is in the closed position, it opens on signal as required by 33 CFR 117.147(b). Navigation on the waterway is mainly commercial traffic, servicing ships entering and leaving the port. The Port of Los Angeles requested the drawbridge be allowed to remain closed to navigation, Monday through Friday, from 8 a.m. on November 6, 2006 to 4 p.m. on December 8, 2006. During this time, critical repairs will be made which involves modifications to allow for the inspection of the bridge's counterweight wire ropes. This temporary deviation has been coordinated with waterway users. No objections to the proposed temporary rule were raised. While the bridge is in the closed-to-navigation position, vessels can transit around Terminal Island to reach the other side of the bridge.

In accordance with 33 CFR 117.35(c), this work will be performed with all due speed in order to return the bridge to normal operation as soon as possible. This deviation from the operating regulations is authorized under 33 CFR 117.35.

Dated: October 24, 2006.
J.A. Breckenridge,
Rear Admiral, U.S. Coast Guard, Commander, Eleventh Coast Guard District.

[FR Doc. E6-18602 Filed 11-3-06; 8:45 am]

BILLING CODE 4910-15-P